DEPARTMENT OF STATE

[Public Notice 8838]

Culturally Significant Objects Imported for Exhibition Determinations: “Bouquets: French Still-Life Painting From Chardin to Matisse,” “Van Gogh, Manet and Matisse: The Art of the Flower at VMFA” and “Working Among Flowers: Floral Still Life Painting in Nineteen-Century France” Exhibitions

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236-3 of August 28, 2000 (and, as appropriate, Delegation of Authority No. 257 of April 15, 2003), I hereby determine that the objects to be included in the exhibition “Bouquets: French Still-Life Painting from Chardin to Matisse” at the Dallas Museum of Art; the exhibition “Van Gogh, Manet and Matisse: The Art of the Flower at VMFA” at the Virginia Museum of Fine Arts, and the exhibition “Working Among Flowers: Floral Still Life Painting in Nineteen-Century France” at the Denver Art Museum, imported from abroad for temporary exhibition within the United States, are of cultural significance. The objects are imported pursuant to loan agreements with the foreign owners or custodians. I also determine that the exhibition or display of the exhibit objects at the Dallas Museum of Art, Dallas, TX, from on or about October 26, 2014, until on or about February 8, 2015; at the Virginia Museum of Fine Arts, Richmond, VA, from on or about March 22, 2015, until on or about June 21, 2015 and at the Denver Art Museum, Denver, CO, from on or about July 19, 2015, until on or about October 11, 2015, and at possible additional exhibitions or venues yet to be determined, is in the national interest. I have ordered that Public Notice of these Determinations be published in the Federal Register.

FOR FURTHER INFORMATION CONTACT: For further information, including a list of the exhibit objects, contact Julie Simpson, Attorney-Adviser, Office of the Legal Adviser, U.S. Department of State (telephone: 202-632-6467). The mailing address is U.S. Department of State, SA-5, L/PD, Fifth Floor (Suite 5H03), Washington, DC 20522-0505.

Dated: August 14, 2014.
Kelly Keiderling,
Principal Deputy Assistant Secretary, Bureau of Educational and Cultural Affairs, Department of State.

[FR Doc. 2014-19997 Filed 8-21-14; 8:45 am]

BILLING CODE 4710-05-P